DEPARTMENT OF THE INTERIOR

National Park Service

Notice of Inventory Completion: Walter Elwood Museum and the Greater Amsterdam School District, Amsterdam, NY

AGENCY: National Park Service, Interior.

ACTION: Notice.

Notice is here given in accordance with the Native American Graves Protection and Repatriation Act (NAGPRA), 25 U.S.C. 3003, Sec. 5, of the completion of an inventory of human remains and associated funerary objects in the possession of Walter Elwood Museum, Amsterdam, NY, and in the control of the Greater Amsterdam School District, Amsterdam, NY. These human remains and associated funerary objects were removed from a site in Montgomery County, NY.

This notice is published as part of the National Park Service’s administrative responsibilities under NAGPRA, 25 U.S.C. 3003, Sec. 5 (d)(3). The determinations within this notice are the sole responsibility of the museum, institution, or Federal agency that has control of these Native American human remains and associated funerary objects. The National Park Service is not responsible for the determinations within this notice.

A detailed assessment of the human remains was made by the Walter Elwood Museum professional staff in consultation with representatives of the Akwesasne Mohawk Nation.

In 1903 and 1904, human remains representing a minimum of four individuals were removed from the Wemp site (NYSM site #1100) near the hamlet of Fort Hunter in the town of Florida, Montgomery County, NY. The human remains were removed either by a farmer or a canal worker during gravel excavations to repair the Erie Canal, and subsequently were purchased by Mr. Max Reid. Mr. Reid's daughter, Mrs. Frazier Whitcomb, inherited the human remains from her father. In 1948, Mrs. Whitcomb donated the human remains to the Walter Elwood Museum. No known individuals were identified. The five associated funerary objects are pottery sherds.

The pottery sherds represent types common during the Late Woodland period that preceded the historic Mohawk settlement at Fort Hunter. The burials excavated at the Wemp site were located on a gravel ridge east of Fort Hunter where Mohawk groups established one of two remaining villages in the Mohawk Valley in the early 18th century. The historically documented “Lower Mohawk Castle,” also known as “Tionondoroge” or “Tehandaloga,” is generally assumed to be associated with a settlement located near the confluence of the Schoharie Creek and the Mohawk River, which included the Wemp site cemetery. The Mohawk people established the settlement around 1710 and most had abandoned it by 1776.

Officials of the Walter Elwood Museum have determined that, pursuant to 25 U.S.C. 3001, Sec. 2 (9-10), the human remains listed above represent the physical remains of at least four individuals of Native American ancestry. Officials of the Walter Elwood Museum have also determined that, pursuant to 25 U.S.C. 3001, Sec. (3)(A), the five objects listed above are reasonably believed to have been placed with or near individual human remains at the time of death or later as part of the death rite or ceremony. Lastly, officials of the Walter Elwood Museum have determined that, pursuant to 25 U.S.C. 3001, Sec. 2 (2), there is a relationship of shared group identity that can be reasonably traced between these Native American human remains and associated funerary objects and the Akwesasne Mohawk Nation.

Representatives of any other Indian tribe that believes itself to be culturally affiliated with these human remains and associated funerary objects should contact Ronald E. Limoncelli, Superintendent, Greater Amsterdam School District, 11 Liberty Street, Amsterdam, New York 12101, telephone (518) 843-5217, before April 7, 2003. Repatriation of these human remains and associated funerary objects to the Akwesasne Mohawk Nation may proceed after that date if no additional claimants come forward.

The Walter Elwood Museum is responsible for notifying the Akwesasne Mohawk Nation that this notice has been published.

Dated: January 24, 2003.
John Robbins,
Assistant Director, Cultural Resources Stewardship and Partnerships.

[FR Doc. 03-5510 Filed 3-6-03; 8:45 am]

BILLING CODE 4310-70-S